DEPARTMENT OF HEALTH AND HUMAN SERVICES

Administration for Children and Families

[CFDA Number: 93.652]

Announcement of the Intent To Award a Single-Source Grant to the Center for Adoption Support and Education in Burtonsville, MD

AGENCY: Children's Bureau (CB), Administration for Children, Youth and Families (ACYF), Administration for Children and Families (ACF), Department of Health and Human Services (HHS).

ACTION: Notice of Issuance of a Single-source cooperative agreement to the Center for Adoption Support and Education (C.A.S.E) for the continued expansion and use of the National Adoption Competency Mental Health Training Initiative across the nation.

SUMMARY: The ACF, ACYF, Children's Bureau, Division of Capacity Building announces the intent to award a single-source cooperative agreement in the amount of up to $10,000,000 to the Center for Adoption Support and Education in Burtonsville, MD. The purpose of this award is to continue to scale the web-based National Training Initiative for Adoption Competent Mental Health Training program to remaining states in the nation, refine and update the curriculum as needed and perform an updated evaluation regarding current use of the curriculum.

DATES: The proposed period of performance is September 30, 2022 to September 29, 2027.

FOR FURTHER INFORMATION CONTACT: June Dorn, National Adoption Specialist, Division of Capacity Building, 333 C St. SW, Suite 3521B, Washington, DC 20201. Telephone: (202) 205-9450; Email: June.Dorn@acf.hhs.gov.

SUPPLEMENTARY INFORMATION: Award funds will support the continued expansion and use of the National Training Initiative on Mental Health Competency across the nation. This curriculum was developed through an initial 5-year grant to C.A.S.E. and pilot tested prior to being supplemented and extended for 3 additional years for the further dissemination and integration of this important web-based training in the state child welfare training systems so there would be consistent use of the knowledge imparted by it across all child welfare systems.

This funding will allow for the continued scale up of the web-based trainings for the child welfare workforce and mental health practitioners to remaining states in the nation; the refinement and update of the curricula as needed; and additional and updated evaluation of the curricula.

Statutory Authority: Title II, section 203 of the Child Abuse Prevention and Treatment and Adoption Reform Act of 1978 (42 U.S.C. 5113(b)), as amended by CAPTA Reauthorization Act of 2010.

Elizabeth A. Leo,
Senior Grants Policy Specialist, Office of Grants Policy, Office of Administration.

[FR Doc. 2022-20587 Filed 9-22-22; 8:45 am]

BILLING CODE 4184-44-P